DEPARTMENT OF STATE

[Public Notice 8299]

60-Day Notice of Proposed Information Collection: Nonimmigrant Treaty Trader/Investor Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 25, 2013.

ADDRESSES: You may submit comments by any of the following methods:

• Web: Persons with access to the Internet may use the Federal Docket Management System (FDMS) to comment on this notice by going to www.Regulations.gov. You can search for the document by entering “Public Notice 8299” in the Search bar. If necessary, use the Narrow by Agency filter option on the Results page.

• Email: PRA_BurdenComments@state.gov.

• Mail: Chief, Legislation and Regulations Division, Visa Services—DS-156E, 2401 E. Street NW., Washington DC 20520-30106.

You must include the DS form number (if applicable), information collection title, and the OMB control number in any correspondence.

FOR FURTHER INFORMATION CONTACT: Direct requests for additional information regarding the collection listed in this notice, including requests for copies of the proposed collection instrument and supporting documents to Sydney Taylor, Visa Services, U.S. Department of State, 2401 E. Street NW., L-603, Washington, DC 20522, who may be reached at PRA_BurdenComments@state.gov.

SUPPLEMENTARY INFORMATION:

• Title of Information Collection: Nonimmigrant Treaty Trader/Investor Application.

• OMB Control Number: OMB-1405-0101.

• Type of Request: Extension of a Currently Approved Collection.

• Originating Office: CA/VO/L/R.

• Form Number: DS-156E.

• Respondents: Nonimmigrant Treaty Trader/Investors.

• Estimated Number of Respondents: 17,000.

• Estimated Number of Responses: 17,000.

• Average Time per Response: 4 hours.

• Total Estimated Burden Time: 68,000.

• Frequency: Once per respondent.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Section 101(a)(15)(E) of the Immigration and Nationality Act (INA) provides for the nonimmigrant classification of a national of a country with which the United States maintains an appropriate treaty of commerce and navigation who is coming to the United States to: (i) Carry on substantial trade, including trade in services or technology, principally between the United States and the treaty country; or (ii) develop and direct the operations of an enterprise in which the national has invested, or is actively in the process of investing, Form DS-156E is completed by foreign nationals seeking nonimmigrant treaty trader/investor visas to the United States. The Department will use the DS-156E to elicit information necessary to determine a foreign national's visa eligibility.

Methodology

After completing Form DS-160, Online Nonimmigrant Visa Application online (or, if the DS-160 is unavailable, DS-156, Nonimmigrant Visa Application), applicants would fill out the DS-156E online, print the form, and submit it in person or via mail.

Dated: April 17, 2013.
Donald L. Heflin,
Acting Deputy Assistant Secretary, Bureau of Consular Affairs, Department of State.

[FR Doc. 2013-09960 Filed 4-25-13; 8:45 am]

BILLING CODE 4710-06-P